SURFACE TRANSPORTATION BOARD

[Docket No. FD 36158]

Old Augusta Railroad, LLC—Acquisition and Operation Exemption—KM Railways, LLC

Old Augusta Railroad, LLC (OAR), a Class III rail carrier, has filed a verified notice of exemption under 49 CFR 1150.41 to purchase from KM Railways, LLC (KMR) (a Class III rail carrier commonly owned with OAR by Koch Industries, Inc.), and to continue to operate approximately 2.5 miles of rail line from New Augusta (Station No. FSAC 10) to Augusta (Station No. FSAC 20) in Perry County, Miss., pursuant to an Asset Purchase Agreement (Agreement). According to OAR, there are no branch lines and no mile posts.¹

¹ In 2009, KMR was authorized to acquire the 2.5-mile rail line from OAR, and OAR was authorized to lease and operate it. See KM Rys.—Acquisition Exemption—Old Augusta R.R., FD 35321 (STB served Dec. 4, 2009); Old Augusta R.R.—Lease & Operation Exemption—KM Rys., FD 35319 (STB served Dec. 4, 2009).

OAR states that this transaction is an internal reorganization for corporate purposes and there will be no change in the operations presently being conducted on the line by OAR after the purchase.

OAR states that the proposed transaction does not involve any provision or agreement that would limit future interchange with a third-party connecting carrier. OAR certifies that its projected annual revenues will not result in creation of a Class I or Class II rail carrier and that its projected annual revenues will not exceed $5 million.

The parties intend to consummate the transaction on or after December 20, 2017, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions to stay must be filed no later than December 13, 2017 (at least seven days before the exemption becomes effective).

An original and 10 copies of all pleadings, referring to Docket No. FD 36158, must be filed with the Surface Transportation Board, 395 E Street SW., Washington, DC 20423-0001. In addition, a copy of each pleading must be served on applicant's representative, David H. Coburn, Steptoe & Johnson LLP, 1330 Connecticut Avenue NW., Washington, DC 20036.

According to OAR, this action is categorically excluded from environmental review under 49 CFR 1105.6(c).

Board decisions and notices are available on our Web site at WWW.STB.GOV.

Decided: December 1, 2017.

By the Board, Scott M. Zimmerman, Acting Director, Office of Proceedings.

Marline Simeon,
Clearance Clerk.

[FR Doc. 2017-26267 Filed 12-5-17; 8:45 am]

BILLING CODE 4915-01-P